DEPARTMENT OF THE TREASURY

Internal Revenue Service

Open Meeting of the Taxpayer Advocacy Panel Tax Forms and Publications Project Committee; Correction

AGENCY: Internal Revenue Service (IRS), Treasury.

ACTION: Notice of meeting; correction.

SUMMARY: In the Federal Register notice that was originally published on March 15, 2016, (Volume 81, Number 50, Page 13876) the day was written as Tuesday instead of Thursday. The meeting date is: Thursday, April 14, 2016.

DATES: The meeting will be held Thursday, April 14, 2016.

FOR FURTHER INFORMATION CONTACT: Donna Powers at 1-888-912-1227 or (954) 423-7977.

SUPPLEMENTARY INFORMATION: Notice is hereby given pursuant to section 10(a)(2) of the Federal Advisory Committee Act, 5 U.S.C. App. (1988) that an open meeting of the Taxpayer Advocacy Panel Tax Forms and Publications Project Committee will be held Thursday, April 14, 2016, at 1:00 p.m. Eastern Time via teleconference. The public is invited to make oral comments or submit written statements for consideration. Due to limited conference lines, notification of intent to participate must be made with Donna Powers. For more information please contact: Donna Powers at 1-888-912-1227 or (954) 423-7977 or write: TAP Office, 1000 S. Pine Island Road, Plantation, FL 33324 or contact us at the Web site: http://www.improveirs.org. The committee will be discussing various issues related to Tax Forms and Publications and public input is welcomed.

Dated: March 15, 2016.
Antoinette Ross,
Acting Director, Taxpayer Advocacy Panel.

[FR Doc. 2016-06236 Filed 3-18-16; 8:45 am]

BILLING CODE 4830-01-P